DEPARTMENT OF COMMERCE

National Oceanic and Atmospheric Administration

RIN 0648-XD042

Pacific Fishery Management Council; Online Webinar

AGENCY: National Marine Fisheries Service (NMFS), National Oceanic and Atmospheric Administration (NOAA), Commerce.

ACTION: Notice of online webinar.

SUMMARY: The Pacific Fishery Management Council's (Pacific Council's) Scientific and Statistical Committee (SSC) Groundfish Subcommittee will hold an online webinar to review data-poor overfishing limit (OFL) estimates for kelp greenling in Oregon and Washington, new OFL estimates for the Washington stock of cabezon, and other business in preparation for the SSC's March 2014 meeting. The online SSC Groundfish Subcommittee webinar is open to the public.

DATES: The SSC Groundfish Subcommittee webinar will commence at 1 p.m. PST, Thursday, January 30, 2014 and continue until 3 p.m. or as necessary to complete business for the day.

ADDRESSES: To attend the SSC Groundfish Subcommittee webinar, please join online at https://www.joinwebinar.com and enter the webinar ID: 701-764-215, as well as your name and email address. Once you have joined the webinar, choose either your computer's audio or select “Use Telephone.” To join the audio teleconference using a telephone, call the toll number 1 (646) 307-1721 and enter 799-773-093 when prompted for the audio code. If you do not select “Use Telephone,” you will be connected to audio using your computer's microphone and speakers (VolP). A headset is recommended. System requirements for PC-based attendees: Windows 7, Vista, or XP; for Mac-based attendees: Mac OS X 10.5 or newer; and for mobile attendees: iPhone, iPad, Android phone, or Android tablet (see the GoToMeeting Webinar Apps). If you experience technical difficulties and would like assistance, please contact Mr. Kris Kleinschmidt at (503) 820-2280. Public comments during the webinar will be received from attendees at the discretion of the SSC Groundfish Subcommittee chair.

FOR FURTHER INFORMATION CONTACT: Mr. John DeVore, Pacific Council; telephone: (503) 820-2280.

SUPPLEMENTARY INFORMATION: The specific objectives of the SSC Groundfish Subcommittee webinar are to review data-poor OFL estimates for kelp greenling in Oregon and Washington, new OFL estimates for the Washington stock of cabezon, and review or discuss other items necessary to prepare for the March 2014 SSC meeting in Sacramento, CA. No management actions will be decided in this webinar.

Although non-emergency issues not identified in the webinar agenda may come before the webinar participants for discussion, those issues may not be the subject of formal action during this webinar. Formal action at the webinar will be restricted to those issues specifically listed in this notice and any issues arising after publication of this notice that require emergency action under Section 305(c) of the Magnuson-Stevens Fishery Conservation and Management Act, provided the public has been notified of the webinar participants' intent to take final action to address the emergency.

Special Accommodations

This meeting is physically accessible to people with disabilities. Requests for auxiliary aids should be directed to Mr. Kris Kleinschmidt at (503) 820-2280 at least 5 days prior to the webinar date.

Dated: January 7, 2014.
Tracey L. Thompson,
Acting Deputy Director, Office of Sustainable Fisheries, National Marine Fisheries Service.

[FR Doc. 2014-00241 Filed 1-9-14; 8:45 am]

BILLING CODE 3510-22-P